DEPARTMENT OF AGRICULTURE

Forest Service

Eastern Idaho Resource Advisory Committee

AGENCY: Forest Service, USDA.

ACTION: Notice of meeting.

SUMMARY: The Easern Idaho Resource Advisory Committee will meet in Idaho Falls, ID. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to elect new officers and to review and recommend projects authorized under title II of the Act.

DATES: The meeting will be held September 21, 2012 at 9 a.m.

ADDRESSES: The meeting will be held at Caribou-Targhee National Forest Headquarters at 1405 Hollipark Drive, Idaho Falls, ID.

Written comments may be submitted as described under Supplementary Information. All comments, including names and addresses when provided, are placed in the record available for public inspection and copying.

The public may inspect comments received at Headquarter, Caribou-Targhee National Forest, 1405 Hollipak Drive, Idaho Falls, ID. Please call ahead to Lynn Ballard 208-557-5765 to facilitate entry into the building to view comments.

FOR FURTHER INFORMATION CONTACT: Lynn Ballard, RAC Coordinator, Caribou-Targhee National Forest, 208-557-5765, lballard@fs.fed.us. Individuals who use telecommunication devices for the deaf (TDD) may call the Federal Information Relay Service (FIRS) at 1-800-877-8339 between 8 a.m. and 8 p.m., Eastern Standard Time, Monday through Friday.

SUPPLEMENTARY INFORMATION: The following business will be conducted: Welcome and introduction of new members, update previous years projects, changes and new information since the last meeting, election of chairperson, review and recommendation of new projects. The full agenda may be previewed at the forest Web site at: http://www.fs.usda.gov/ctnf. Anyone who would like to bring related matters to the attention of the committee may file written statements with the committee staff before or after the meeting. The agenda will include time for people to make oral statements of three minutes or less. Individuals wishing to make an oral statement should request in writing by September 17, 2012 to be scheduled on the agenda. Written comments and requests for time for oral comments must be sent to 1405 Holipark Drive, Idaho Falls, Idaho 83420, or by email to lballard@fs.fed.us, or via facsimile to 1-208-557-5827. A summary of the meeting will be posted at http://www.fs.usda.gov/ctnf within 21 days of the meeting.

Meeting Accommodations: If you are a person requiring resonable accommodation, please make requests in advance for sign language interpreting, assistive listening devices or other reasonable accommodations for access to the facility or procedings by contacting the person listed under For Further Information Contact. All reasonable accommodation requests are managed on a case-by-case basis.

Dated: August 23, 2012.
Brent L. Larson,
Forest Supervisor.

[FR Doc. 2012-21807 Filed 9-4-12; 8:45 am]

BILLING CODE 3410-11-M